DEPARTMENT OF VETERANS AFFAIRS

Advisory Committee on Homeless Veterans; Notice of Meeting

The Department of Veterans Affairs (VA) gives notice under Public Law 92-463 (Federal Advisory Committee Act) that a meeting of the Advisory Committee on Homeless Veterans will be held on December 13-14, 2006, at the Department of Veterans Affairs Atlanta Regional Office, 1700 Clairmont Road, Atlanta, Georgia. The sessions will convene at 8 a.m. each day. On December 13, the session will end at 4 p.m. and on December 14 will end at 12 Noon. The meeting is open to the public.

The purpose of the Committee is to provide the Secretary of Veterans Affairs with an ongoing assessment of the effectiveness of the policies, organizational structures, and services of the Department in assisting homeless veterans. The Committee shall assemble and review information relating to the needs of homeless veterans and provide ongoing advice on the most appropriate means of assisting homeless veterans. The Committee will make recommendations to the Secretary regarding such activities.

On December 13, the Committee will review the responses to the Advisory Committee on Homeless Veterans 2006 report and receive information and reports from the Department of Veterans Affairs and other Federal departments.

On December 14, the Committee will continue to receive reports and begin preparation of its upcoming annual report and recommendations to the Secretary.

Those wishing to attend the meeting should contact Mr. Pete Dougherty, Department of Veterans Affairs, at (202) 273-5764. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: November 17, 2006.
By direction of the Secretary.
E. Philip Riggin,
Committee Management Officer.

[FR Doc. 06-9378 Filed 11-22-06; 8:45 am]

BILLING CODE 8320-01-M